ENVIRONMENTAL PROTECTION AGENCY

[FRL-6568-7]

Approval oOf Section 112(l) Delegation of Maximum Achievable Control Technology Standards; Indiana

AGENCY: Environmental Protection Agency (EPA).

ACTION: Notice.

SUMMARY: The purpose of this notice is to announce that EPA is approving a request for delegation of the Maximum Achievable Control Technology (MACT) standards for gasoline distribution, organic hazardous air pollutants, off-site waste recovery operations, and primary aluminum reduction (i.e., 40 CFR Part 63, Subparts R, F, G, H, I, DD, and LL, respectively) pursuant to section 112(l) of the Clean Air Act (CAA). The State's mechanism of delegation involves State rule adoption of all existing and future section 112 standards unchanged from the Federal standards. The actual delegation of authority of individual standards was a letter from EPA to the Indiana Department of Environmental Management (IDEM) dated January 6, 2000.

DATES: This action will become effective January 6, 2000.

ADDRESSES: Copies of the State's submittal and other supporting information used in developing the approval are available for inspection during normal business hours at the following location:

EPA Region 5, 77 West Jackson Boulevard, AR-18J, Chicago, Illinois, 60604.

Please contact Sam Portanova at (312) 886-3189 to arrange a time if inspection of the submittal is desired.

FOR FURTHER INFORMATION CONTACT: Sam Portanova, AR-18J, 77 West Jackson Boulevard, Chicago, Illinois 60604, (312) 886-3189.

SUPPLEMENTARY INFORMATION:

I. What Action Is EPA Taking Today?

EPA is notifying the public that delegation of the authority to implement and enforce the MACT standards for gasoline distribution, hazardous organic national emission standard for hazardous air pollutants, off-site waste recovery operations, and primary aluminum reduction was approved in a letter from EPA to IDEM dated January 6, 2000.

All notifications, reports and other correspondence required under section 112 standards should be sent to the State of Indiana rather than to the EPA, Region 5, in Chicago. Affected sources should send this information to: Indiana Department of Environmental Management, Office of Air Management, 100 North Senate Avenue, P.O. Box 6015, Indianapolis, Indiana 46206-6015.

II. EPA is Approving the Delegation Under What Authority?

Section 112(l) of the CAA enables the EPA to approve State air toxics programs or rules to operate in place of the Federal air toxics program. The Federal air toxics program implements the requirements found in section 112 of the CAA pertaining to the regulation of hazardous air pollutants. Approval of an air toxics program is granted by the EPA if the Agency finds that the State program: (1) Is “no less stringent” than the corresponding Federal program or rule, (2) the State has adequate authority and resources to implement the program, (3) the schedule for implementation and compliance is sufficiently expeditious, and (4) the program is otherwise in compliance with Federal guidance. Once approval is granted, the air toxics program can be implemented and enforced by State or local agencies, as well as EPA.

On February 7, 1996, Indiana submitted to EPA a request for delegation of authority to implement and enforce the air toxics program under section 112 of the CAA exactly as promulgated by EPA. On July 8, 1997, Federal Register (62 FR 36460), EPA approved Indiana's program of delegation.

III. IDEM Submitted Which Standards to EPA for Approval Under Indiana's Air Toxics Program Delegation Mechanism?

On December 8, 1999, IDEM requested delegation of implementation and enforcement authority of the MACT standards for gasoline distribution, organic hazardous air pollutants, off-site waste recovery operations, and primary aluminum reduction (i.e., 40 CFR Part 63, Subparts R, F, G, H, I, DD, and LL, respectively). The State of Indiana's rules 326 Indiana Administrative Code (IAC) 20-10, 326 IAC 20-11, 326 IAC 20-12, 326 IAC 20-23, and 326 IAC 20-24 incorporate these MACT standards into the State's rules unchanged from the Federal regulations.

Dated: March 21, 2000.
Francis X. Lyons,
Regional Administrator, Region 5.

[FR Doc. 00-7998 Filed 3-30-00; 8:45 am]

BILLING CODE 6560-50-P